DEPARTMENT OF ENERGY

Federal Energy Regulatory Commission

[Docket Nos. CP24-75-000; PF23-2-000]

Sabine Pass Liquefaction, LLC; Sabine Pass Liquefaction Stage, V, LLC; Sabine Crossing, LLC; Notice Accepting Application

Take notice that on February 29, 2024, Sabine Pass Liquefaction, LLC; Sabine Pass Liquefaction Stage V, LLC (collectively, Sabine Pass); and Sabine Crossing, LLC (Sabine Crossing), 845 Texas Avenue, Houston, Texas 77002, jointly filed an application under sections 3 and 7 of the Natural Gas Act (NGA) and parts 153 and 157 of the Commission's regulations requesting authorization to site, construct, and operate the Sabine Pass Stage 5 Expansion Project and to construct the Sabine Crossing Pipeline Project. On March 13, 2024, Sabine Crossing withdrew its Sabine Crossing Pipeline Project from the joint application.¹

¹ The withdrawal of the application for the Sabine Crossing Pipeline will be effective on March 29, 2024, if not opposed. See 18 CFR 385.216 (2023); see also 18 CFR 157.6(a)(5) (2023).

Sabine Pass requests authorization to expand the liquefied natural gas (LNG) facility in Cameron Parish, Louisiana (SPLNG Terminal) by constructing (1) two liquefaction trains, each with a liquefaction nameplate capacity of approximately 7.0 million tonnes per annum; (2) two 220,000 cubic meter LNG full-containment, above-ground storage tanks; (3) new LNG loading lines; (4) a new roll-on, roll-off dock; (5) a new LNG spill collection system; and (6) other appurtenances, all as more fully set forth in the application which is on file with the Commission and open for public inspection.

In addition to publishing the full text of this document in the Federal Register, the Commission provides all interested persons an opportunity to view and/or print the contents of this document via the internet through the Commission's Home Page (www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

Any questions regarding the proposed project should be directed to Karri Mahmoud, Cheniere Energy, Inc., 845 Texas Avenue, Suite 1500, Houston, Texas 77002, by phone at (713) 375-5544, or by email at Karri.Mahmoud@cheniere.com.

On May 30, 2023, the Commission granted Sabine Pass' request to utilize the National Environmental Policy Act (NEPA) Pre-Filing Process and assigned Docket No. PF23-2-000 to staff activities involved in the Project. Now, as of the filing of the February 29, 2024, application, the Pre-Filing Process for SPLNG's Sabine Pass Stage 5 Expansion Project has ended. From this time forward, this proceeding will be conducted in Docket No. CP24-75-000 as noted in the caption of this Notice. The Pre-Filing Process will continue for the Sabine Crossing Pipeline Project under Docket No. PF23-2-000.

In its withdrawal letter, Sabine Crossing states that it will resubmit an NGA section 7(c) application for the Sabine Crossing Pipeline Project following further development and modification of the project. Until the details of the revised Sabine Crossing Pipeline Project are filed and more fully understood, the Commission cannot begin preparation of a NEPA document. Pursuant to section 157.9 of the Commission's Rules of Practice and Procedure,² within 90 days after the Commission issues a Notice of Application for the revised Sabine Crossing Pipeline Project, Commission staff will issue a Notice of Schedule for Environmental Review that will indicate the anticipated date for Commission staff's issuance of the NEPA document analyzing both the Sabine Pass Stage 5 Expansion Project and the Sabine Crossing Pipeline Project. The issuance of a Notice of Schedule for Environmental Review will also serve to notify federal and state agencies of the timing for the completion of all necessary reviews, and the subsequent need to complete all federal authorizations within 90 days of the date of issuance of Commission staff's NEPA document.

² 18 CFR 157.9.

The Commission is not soliciting comments, protests, or motions to intervene at this time. When Sabine Crossing files a revised application for the Sabine Crossing Pipeline Project, a notice will be issued establishing a deadline to file comments, protests, and motions to intervene for both the Sabine Crossing Pipeline Project and the Sabine Pass Stage 5 Expansion Project.

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Dated: March 25, 2024.
Debbie-Anne A. Reese,
Acting Secretary.

[FR Doc. 2024-06773 Filed 3-29-24; 8:45 am]

BILLING CODE 6717-01-P